POSTAL REGULATORY COMMISSION

Facility Tours

AGENCY: Postal Regulatory Commission.

ACTION: Notice of Commission tours.

SUMMARY: On Thursday afternoon, June 22, 2007, Postal Rate Commission and advisory staff members will tour Hallmark Headquarters and Visitors Center in Kansas City, Missouri. On Friday afternoon, June 23, 2007, Commissioners and advisory staff members will tour a DST Systems, Inc. facility in Kansas City, Missouri. The purpose of the Hallmark tour is to discuss shape-based postage rates and to observe Hallmark operations. The purpose of the DST Systems, Inc. tour is to observe company operations, including the interface with U.S. Postal Service operations.

DATES: June 22 (1 p.m.) and June 23, 2007 (2 p.m.).

FOR FURTHER INFORMATION CONTACT: Ann C. Fisher, Chief of Staff, Postal Regulatory Commission, at 202-789-6803 or ann.fisher@prc.gov.

Steven W. Williams,
Secretary.

[FR Doc. 07-3051 Filed 6-20-07; 8:45 am]

BILLING CODE 7710-FW-M